OFFICE OF PERSONNEL MANAGEMENT

Excepted Service

AGENCY: Office of Personnel Management.

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between September 1, 2005, and September 30, 2005.

Future notices will be published on the fourth Tuesday of each month, or as soon as possible thereafter.

A consolidated listing of all authorities as of June 30 is published each year.

Schedule A

No Schedule A appointments were approved for September 2005.

Schedule B

No Schedule B appointments were approved for September 2005.

Schedule C

The following Schedule C appointments were approved during September 2005:

Section 213.3303 Executive Office of the President

Office of Management and Budget

BOGS60150 Confidential Assistant to the Controller, Office of Federal Financial Management.

Effective September 29, 2005.

Office of National Drug Control Policy

QQGS00041 Legislative Assistant to the Associate Director, Legislative Affairs. Effective September 20, 2005.

Section 213.3304 Department of State

DSGS60987 Program Support Assistant to the Deputy Chief of Protocol. Effective September 02, 2005.

DSGS60988 Special Assistant to the Assistant Secretary, Bureau for Educational and Cultural Affairs. Effective September 09, 2005.

DSGS60990 Senior Advisor to the Assistant Secretary for Near Eastern and South Asian Affairs. Effective September 16, 2005.

DSGS60965 Public Affairs Specialist to the Deputy Chief of Protocol. Effective September 27, 2005.

DSGS60997 Public Affairs Specialist to the Assistant Secretary for Public Affairs. Effective September 30, 2005.

Section 213.3305 Department of the Treasury

DYGS00424 Senior Advisor to the Assistant Secretary (Economic Policy). Effective September 20, 2005.

DYGS00410 Senior Advisor to the Deputy Secretary of the Treasury. Effective September 29, 2005.

DYGS00359 Senior Advisor to the Under Secretary for International Affairs. Effective September 29, 2005.

DYGS00463 Special Assistant to the Assistant Secretary (Management) and Chief Financial Officer. Effective September 29, 2005.

Section 213.3306 Office of the Secretary of Defense

DDGS16888 Staff Assistant to the Deputy Assistant Secretary of Defense (Eurasia). Effective September 06, 2005.

DDGS16890 Special Assistant to the Deputy Under Secretary of Defense (Resource Planning/Management). Effective September 06, 2005.

DDGS16894 Personal and Confidential Assistant to the Principal Under Secretary of Defense (Policy). Effective September 06, 2005.

DDGS16895 Staff Assistant to the Deputy Assistant Secretary of Defense (Negotiations Policy). Effective September 20, 2005.

Section 213.3307 Department of the Army

DWGS60084 Personal and Confidential Assistant to the Principal Deputy Assistant Secretary of the Army (Manpower and Reserve Affairs)/Deputy Assistant Secretary (Training, Readiness and Mobilization). Effective September 08, 2005.

DWGS60018 Special Assistant to the Assistant Secretary of the Army (Installations and Environment). Effective September 27, 2005.

Section 213.3309 Department of the Air Force

DFGS60014 Personal and Confidential Assistant to the General Counsel. Effective September 27, 2005.

Section 213.3310 Department of Justice

DJGS00403 Public Affairs Specialist to the Director, Office of Public Affairs. Effective September 02, 2005.

DJGS00135 Special Assistant to the Assistant Attorney General, Tax Division. Effective September 09, 2005.

DJGS00207 Special Assistant to the Director of the Violence Against Women Office. Effective September 09, 2005.

DJGS00317 Deputy Chief of Staff to the Assistant Attorney General, Criminal Division. Effective September 23, 2005.

Section 213.3311 Department of Homeland Security

DMGS00417 Executive Assistant to the Chief of Staff. Effective September 02, 2005.

DMGS00419 Director of Speechwriting to the Deputy Assistant Secretary for Public Affairs. Effective September 06, 2005.

DMGS00414 Special Assistant and Senior Writer-Editor to the Executive Secretary. Effective September 08, 2005.

DMGS00418 Special Assistant to the Assistant Secretary, Immigration and Customs Enforcement. Effective September 09, 2005.

DMGS00416 Director of Ports Media Division to the Assistant Commissioner for Public Affairs. Effective September 12, 2005.

DMGS00420 Staff Assistant to the Director of Scheduling and Advance. Effective September 13, 2005.

DMGS00422 Assistant Director of Legislative Affairs for Science and Technology to the Assistant Secretary for Legislative Affairs. Effective September 14, 2005.

DMGS00423 Policy Advisor to the Chief of Staff. Effective September 14, 2005.

DMGS00421 Confidential Assistant to the Chief Medical Officer. Effective September 15, 2005.

DMGS00424 Deputy Executive Secretary to the Executive Secretary. Effective September 27, 2005.

DMGS00413 Legislative Policy Advisor to the Deputy Assistant Secretary for Border and Transportation Security Policy. Effective September 28, 2005.

DMGS00409 Special Assistant to the Chief of Staff. Effective September 29, 2005.

DMOT00395 Special Assistant to the Assistant Secretary, Transportation Security Administration. Effective September 29, 2005.

Section 213.3312 Department of the Interior

DIGS01046 Special Assistant Advance to the Director, Scheduling and Advance. Effective September 23, 2005.

DIGS79003 Special Assistant (Communication) to the Director, External and Intergovernmental Affairs. Effective September 30, 2005.

Section 213.3313 Department of Agriculture

DAGS00822 Special Assistant to the Associate Administrator, Programs. Effective September 02, 2005.

DAGS00824 Confidential Assistant to the Deputy Assistant Secretary. Effective September 15, 2005.

DAGS00826 Special Assistant to the Administrator, Agricultural Marketing Service. Effective September 28, 2005.

Section 213.3314 Department of Commerce

DCGS60163 Executive Assistant to the Deputy Secretary. Effective September 02, 2005.

DCGS60677 Director, Office of Energy, Environment and Materials to the Deputy Assistant Secretary for Manufacturing. Effective September 15, 2005.

DCGS00382 Confidential Assistant to the Deputy Chief of Staff for Policy. Effective September 16, 2005.

DCGS00470 Confidential Assistant to the Director, Executive Secretariat. Effective September 16, 2005.

DCGS00485 Special Assistant to the Director, Office of External Affairs. Effective September 16, 2005.

DCGS60548 Executive Assistant to the Assistant Secretary. Effective September 16, 2005.

DCGS00657 Confidential Assistant to the Director of Advance. Effective September 26, 2005.

DCGS00473 Confidential Assistant to the General Counsel. Effective September 30, 2005.

DCGS00191 Special Assistant to the General Counsel. Effective September 30, 2005.

DCGS00664 Special Assistant to the Assistant Secretary and Director General of the United States. Effective September 30, 2005.

Section 213.3315 Department of Labor

DLGS60119 Staff Assistant to the Chief of Staff. Effective September 27, 2005.

DLGS60201 Special Assistant to the Secretary of Labor. Effective September 29, 2005.

Section 213.3316 Department of Health and Human Services

DHGS60665 Deputy Director for Policy, Intergovernmental Affairs to the Director of Intergovernmental Affairs. Effective September 02, 2005.

DHGS60247 Regional Director Philadelphia Region III to the Director of Intergovernmental Affairs. Effective September 07, 2005.

DHGS60023 Special Assistant to the Director, Center for Disease Control and Prevention Administration. Effective September 09, 2005.

DHGS60675 Special Assistant to the Assistant Secretary for Aging (Commissioner for Aging). Effective September 15, 2005.

DHGS60129 Special Assistant to the Administrator, Centers for Medicare and Medicaid Services. Effective September 19, 2005.

DHGS60399 Special Assistant to the Assistant Secretary for Children and Families. Effective September 26, 2005.

Section 213.3317 Department of Education

DBGS00462 Special Assistant to the Assistant Secretary, Office of Communications and Outreach. Effective September 19, 2005.

DBGS00463 Deputy Assistant Secretary to the Assistant Secretary for Legislation and Congressional Affairs. Effective September 23, 2005.

DBGS00466 Confidential Assistant to the Assistant Secretary, Office of Communications and Outreach. Effective September 28, 2005.

DBGS00468 Special Assistant to the Deputy Assistant Secretary for External Affairs and Outreach Services. Effective September 28, 2005.

DBGS00442 Confidential Assistant to the Director, Regional Services. Effective September 30, 2005.

Section 213.3318 Environmental Protection Agency

EPGS05010 Director, Office of Long-Range Communications and Planning to the Associate Administrator for Public Affairs. Effective September 28, 2005.

Section 213.3327 Department of Veterans Affairs

DVGS60006 Special Assistant to the General Counsel. Effective September 16, 2005.

DVGS60036 Protocol Liaison Officer to the Secretary. Effective September 30, 2005.

DVGS60038 Special Assistant to the Deputy Secretary of Veterans Affairs. Effective September 30, 2005.

Section 213.3331 Department of Energy

DEGS00492 Strategic Communications Advisor to the Assistant Secretary for Policy and International Affairs. Effective September 26, 2005.

Federal Energy Regulatory Commission

DRGS51517 Policy Adviser to a Chairman. Effective September 15, 2005.

Section 213.3337 General Services Administration

GSGS00156 Confidential Assistant to the Chief of Staff. Effective September 07, 2005.

GSGS60113 Special Assistant to the Regional Administrator Region 1, Boston. Effective September 07, 2005.

Section 213.3384 Department of Housing and Urban Development

DUGS60362 Staff Assistant to the Assistant Secretary for Policy Development and Research. ffective September 01, 2005.

DUGS60416 Staff Assistant to the Assistant Secretary for Public and Indian Housing. Effective September 16, 2005.

Section 213.3394 Department of Transportation

DTGS60192 Special Assistant to the Assistant to the Secretary and Director of Public Affairs. Effective September 02, 2005.

DTGS60379 Special Assistant to the Director to the Assistant to the Secretary and Director of Public Affairs. Effective September 02, 2005.

DTGS60380 Associate Administrator for Governmental, International, and Public Affairs to the Administrator. Effective September 07, 2005.

Authority: 5 U.S.C. 3301 and 3302; E.O. 10577, 3 CFR 1954-1958 Comp., P.218

Linda M. Springer,
Director, Office of Personnel Management.

[FR Doc. 05-21620 Filed 10-28-05; 8:45 am]

BILLING CODE 6325-39-P